DEPARTMENT OF ENERGY

Federal Energy Regulatory Commission

[Docket No. RP03-514-000]

Gas Research Institute; Notice of Annual Application

June 19, 2003.

Take notice that on June 2, 2003, the Gas Research Institute (GRI) filed an application requesting advance approval of its 2004-2008 Five-Year Research, Development and Demonstration (RD&D) Plan, and the 2004 RD&D Program and the funding of its RD&D activities for 2004, pursuant to section 154.401 of the Commission's regulations under the Natural Gas Act, the Commission's rules of practice and procedure, and the Commission's April 29, 1998, Order Approving Settlement (April 29 Order) (83 FERC ¶61,093 (1998)).

In its application, GRI states that all aspects of its proposed 2004 Program are consistent with the current Settlement. GRI states that proposed budgets are identical to those approved as part of the Settlement. GRI proposes to incur contract obligation of $60.0 million in 2004. Consistent with the April 29 Order, GRI states that all $60.0 million of the 2004 contract obligations will be for Core Projects. GRI states that its application seeks to collect funds to support its RD&D program through jurisdictional rates and charges during the 12 months ending December 31, 2004.

Consistent with the April 29 Order, GRI proposes to fund the 2004 RD&D program by using the following surcharges: (1) A demand/reservation surcharge of 5.0 cents per Dth per Month for “high load factor customers”; (2) a demand/reservation surcharge of 3.1 cents per Dth per Month for “low load factor customers”, (3) a volumetric commodity/usage surcharge of 0.4 cents; and (4) a special “small customer” surcharge of 0.6 cents per Dth. GRI states that all of the proposed 2004 surcharges are the same as corresponding current levels.

The Commission Staff will analyze GRI's application and prepare a Commission Staff Report. This Staff Report will be served on all parties and filed with the Commission as a public document on August 4, 2003. Comments on the Staff Report and GRI's application by all parties, except GRI, must be filed with the Commission on or before August 18, 2003. GRI's reply comments must be filed on or before August 25, 2003.

Any person desiring to be heard or to protest said filing should file a motion to intervene or a protest with the Federal Energy Regulatory Commission, 888 First Street, NE., Washington, DC 20426, in accordance with sections 385.214 or 385.211 of the Commission's rules and regulations. All such motions or protests must be filed on or before the intervention and protests date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Intervention and Protest Date: June 30, 2003.

Magalie R. Salas,
Secretary.

[FR Doc. 03-16212 Filed 6-25-03; 8:45 am]

BILLING CODE 6717-01-P